OFFICE OF SPECIAL COUNSEL

Agency Information Collection Activities; Request for Comment

AGENCY: Office of Special Counsel.

ACTION: Notice.

SUMMARY: In accordance with the Paperwork Reduction Act of 1995 (44 U.S.C. Chapter 35), and implementing regulations at 5 CFR part 1320, the U.S. Office of Special Counsel (OSC) is requesting approval from the Office of Management and Budget (OMB) to use four previously approved information collections consisting of three forms for filing complaints and disclosures of information, and an electronic survey form. These collections are listed below. The current OMB approval for Forms OSC-11, OSC-12, OSC-13, and the OSC Survey expires 9/30/12. We are submitting all three forms and the electronic survey for renewal. This will be a reinstatement of the forms, with changes to the Privacy Act Statement for the three forms for filing complaints and disclosures of information and the Consent Statement for Form OSC-12. Current and former Federal employees, employee representatives, other Federal agencies, state and local government employees, and the general public are invited to comment on these information collections for the final time. Comments are invited on: (a) Whether the proposed collection of information is necessary for the proper performance of OSC functions, including whether the information will have practical utility; (b) the accuracy of OSC's estimate of the burden of the proposed collections of information; (c) ways to enhance the quality, utility, and clarity of the information to be collected; and (d) ways to minimize the burden of the collection of information on respondents, including through the use of automated collection techniques or other forms of information technology.

Notice and request for public comment on these forms was published in the Federal Register on April 16, 2012 at 77 FR 22614 and on May 15, 2012 at 77 FR 28638.

DATES: Comments should be received on or before July 26, 2012.

ADDRESSES: Comments should be sent to the Office of Information and Regulatory Affairs at the Office of Management and Budget, 725 Seventeenth Street NW., Attention: Desk Officer for U.S. Office of Special Counsel, Washington, DC 20503. A copy of any comments should be sent to Karl Kammann, Director of Finance, U.S. Office of Special Counsel, 1730 M Street NW., Suite 218, Washington, DC 20036-4505.

FOR FURTHER INFORMATION CONTACT: Karl Kammann, Director of Finance, either at the address shown above, or by facsimile at (202) 254-3711.

SUPPLEMENTARY INFORMATION: OSC is an independent agency responsible for, among other things, (1) the investigation and prosecution of allegations of prohibited personnel practices defined by law at 5 U.S.C. 2302(b), including protection of whistleblowers, and certain other illegal employment practices under titles 5 and 38 of the U.S. Code affecting current or former Federal employees or applicants for employment, and covered state and local government employees; (2) providing a safe and secure channel for considering whistleblower disclosures; and (3) the interpretation and enforcement of Hatch Act provisions on political activity in chapters 15 and 73 of title 5 of the U.S. Code. OSC is also required to conduct an annual survey of individuals who seek its assistance. Section 13 of Public Law 103-424 (1994), codified at 5 U.S.C. 1212 note, states, in part: “[T]he survey shall—(1) determine if the individual seeking assistance was fully apprised of their rights; (2) determine whether the individual was successful either at the Office of Special Counsel or the Merit Systems Protection Board; and (3) determine if the individual, whether successful or not, was satisfied with the treatment received from the Office of Special Counsel.” The same section also provides that survey results are to be published in OSC's annual report to Congress. Copies of prior years' annual reports are available on OSC's Web site, at http://www.osc.gov/RR_AnnualReportsToCongress.htm, or by calling OSC at (202) 254-3600.

Copies of the OSC Forms 11, 12, and 13 can be found at: http://www.osc.gov/RR_OSCFORMS.htm The survey form for the collection of information is available for review by writing to the point of contact at OSC listed above.

Title of Collections: (1) Form OSC-11 (Complaint of Possible Prohibited Personnel Practice of Other Prohibited Activity) OMB control number 3255-0002; (2) Form OSC-12 (Information about filing a Whistleblower Disclosure with the Office of Special Counsel), OMB control number 3255-0002; (3) Form OSC-13 (Complaint of Possible Prohibited Political Activity (Violation of the Hatch Act)), OMB control number 3255-0002; (4) Office of Special Counsel (OSC) Annual Survey; OMB control number 3255-0003; all four with expiration date of 09/30/12.

Summary of the Collection of Information. OSC is seeking approval of its annual electronic survey, and its three previously approved forms for filing complaints and disclosures of information, that expire on September 30, 2012, with revision of the Privacy Act System of Records Notice applicable to Forms OSC-11, OSC-12 and OSC-13, to reflect new and revised routine uses. See Federal Register Notice at 78 FR 24242 (April 23, 2012). The Consent Statement for Form OSC-12 is also revised.

Brief Description of Need for Information and Proposed Use. The OSC forms are used to enable our agency to: (1) Investigate allegations of prohibited personnel practices, (2) provide a safe, secure channel for whistleblower disclosures, and (3) enforce the Hatch Act. The survey is used by government employees and complainants whose cases with OSC were closed during the fiscal year and wish to give us feedback on the quality of our service.

Description of likely respondents, including estimated number of likely respondents and proposed frequency of response. Forms OSC-11 and OSC-12 are used by current and former Federal employees and applicants for Federal employment to submit allegations of possible prohibited personnel practices and whistleblower disclosures respectively. Form OSC-13 is used for the submission of Hatch Act complaints. The frequency of the use of the three forms, OSC-11, OSC-12, and OSC-13, is daily. The estimated number of respondents is 4,000. The survey form is voluntary and anonymous, and it is used to survey current and former Federal employees and applicants for Federal employment who have submitted allegations of possible prohibited personnel practices. The survey form also surveys complainants alleging Hatch Act violations, whose matter has been closed or otherwise resolved during the prior fiscal year, on their experience at OSC. Specifically, the survey asks questions relating to whether the respondent was: (1) Apprised of his or her rights; (2) successful at the OSC or at the Merit Systems Protection Board; and (3) satisfied with the treatment received at the OSC. The frequency of the use of this survey is annual, and the estimated number of respondents is 320 per year.

Estimate of total annual reporting and recordkeeping burden. The estimated average amount of time for a person to respond using the OSC forms is 55 minutes; the estimated annual burden for using the OSC forms is 3,666 hours. The estimated average amount of time for a person to respond using the electronic survey is 12 minutes. The estimated annual survey burden is 64 hours.

Dated: June 12, 2012.
Mark Cohen,
Deputy Special Counsel.

[FR Doc. 2012-14726 Filed 6-15-12; 8:45 am]

BILLING CODE 7405-01-P